ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Tuesday and Wednesday, July 9-10, 2013 at the times and location listed below.

DATES: The schedule of events is as follows:

Tuesday, July 9, 2013

1:30-3:30 p.m.—Joint Meeting of the Budget, Planning and Evaluation, and Technical Programs Committees on FY 2015 Planning

3:30-4:30—Ad Hoc Committee on Frontier Issues

4:30-5:00—Ad Hoc Committee on Accessible Design in Education

Wednesday, July 10, 2013

9:30-Noon—Hearing on Passenger Vessels Proposed Rule

1:30-3:30 p.m.—Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, July 10, the Access Board will consider the following agenda items:

• Approval of the draft March 13, 2013 meeting minutes (vote)

• Ad Hoc Committee Reports: Public Rights-of-Way and Shared Use Paths; Transportation Vehicles; Accessible Design in Education; and Frontier Issues

• Joint Budget, Technical Programs, and Planning and Evaluations Committees Report

• Election Assistance Commission Report

• ADA and ABA Guidelines; Federal Agency Update

• Prescription Drug Labeling Working Group Report

• Medical Diagnostic Equipment Federal Advisory Committee Report

• Executive Director's Report

• Public Comment, Open Topics

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/about/policies/fragrance.htm for more information).

David M. Capozzi,
Executive Director.

[FR Doc. 2013-15108 Filed 6-24-13; 8:45 am]

BILLING CODE 8150-01-P